DEPARTMENT OF HEALTH AND HUMAN SERVICES

Agency for Healthcare Research and Quality (AHRQ)

Statement of Organization, Functions, and Delegations of Authority

Part E, Chapter E (Agency for Healthcare Research and Quality), of the Statement of Organization, Functions, and Delegations of Authority for the Department of Health and Human Services (61 FR 15955-58, April 10, 1996, most recently amended 65 FR 16395, March 28, 2000) is further amended to reflect recent organizational changes. Specifically, AHRQ is re-titling its Center for Quality Measurement and Improvement as the Center for Quality Improvement and Patient Safety (CQuIPS, pronounced “see quips”) to reflect the Center's additional functional responsibilities for patient safety. The specific changes are as follows:

1. Under Section E-10, Organization, replace “I. Center for Quality Measurement and Improvement” with “I. Center for Quality Improvement and Patient Safety”.

2. Under Section E-20, Functions, delete the title and statement for the Center for Quality Measurement and Improvement (EL) in its entirety and insert the following:

Center for Quality Improvement and Patient Safety (EL)

Conducts and supports research on the measurement and improvement of the quality of health care and enhancement of patient safety. Specifically, (1) Conducts and supports research, demonstrations, and evaluations of the quality of health care and patient safety; (2) conducts and supports research on the measurement of healthcare quality and promotes the use of these measures; (3) conducts and supports research on effective ways to improve the quality of healthcare and participates in the dissemination of this knowledge; (4) evaluates methods for identifying and preventing medical errors; (5) supports dissemination and communication activities to improve quality of care and patient safety; (6) designs, conducts, and supports surveys to assess the quality of and satisfaction with health care services and systems; (7) develops and tests measures and methods for evaluating the quality of care and enhancing patient safety; (8) provides technical assistance and gathers information on the use of quality measures, consumer and patient information, and reporting on patient safety and the resulting effects; (9) develops and disseminates an annual report on healthcare quality in general and patient safety specifically; and (10) represents the Agency in meetings with domestic and international experts and organizations concerned with measuring and evaluating the quality of care and enhancing patient safety.

These changes are effective upon date of signature.

Dated: January 17, 2001.
John M. Eisenberg,
Director.

[FR Doc. 01-2064 Filed 1-23-01; 8:45 am]

BILLING CODE 4160-90-M